DEPARTMENT OF STATE

[Public Notice: 10313]

Meeting on United States-Morocco Free Trade Agreement Environment Chapter Implementation, Working Group on Environmental Cooperation, and Public Session

AGENCY: Department of State.

ACTION: Announcement of meetings; solicitation of suggestions; invitation to public session.

SUMMARY: The Department of State and the Office of the United States Trade Representative (USTR) are providing notice that the governments of the United States and Kingdom of Morocco (the governments) intend to hold a meeting to review implementation of the Environment Chapter of the United States-Morocco Free Trade Agreement (FTA), a meeting of the United States-Morocco Working Group on Environmental Cooperation (Working Group), and a public session in Rabat, Morocco, on March 13, 2018, at the Ministry of Environment, to discuss implementation of the Environment Chapter and Joint Statement on Environmental Cooperation.

DATES: The public session will be held on March 13, 2018, in Rabat, Morocco at the Ministry of Environment. Suggestions on the meeting agenda and/or the 2018-2021 Plan of Action should be provided no later than March 8, 2018, to facilitate consideration.

ADDRESSES: Those interested in attending the public session should email Eloise Canfield at CanfieldME@state.gov to find out the time of the session. Suggestions on the meeting agenda and/or the 2018-2021 Plan of Action should be emailed to CanfieldME@state.gov or faxed to Eloise Canfield at (202) 647-5947, with the subject line “United States-Morocco Environmental Cooperation.”

FOR FURTHER INFORMATION CONTACT: Eloise Canfield, (202) 647-4750 or at CanfieldME@state.gov.

SUPPLEMENTARY INFORMATION: During the meetings, the governments will review and discuss implementation of the Environment Chapter of the FTA. The governments will also discuss how the United States and Morocco can work together to protect and conserve the environment, highlight past bilateral environmental cooperation, review activities under the 2014-2017 Plan of Action, and develop a 2018-2021 Plan of Action. The Department of State and USTR invite the members of the public to submit written suggestions on items to include on the meeting agenda and in the 2018-2021 Plan of Action.

The Department of State and USTR also invite interested persons to attend a public session where the public will have the opportunity to ask about implementation of both the Joint Statement and the Environment Chapter of the United States-Morocco FTA. The Environment Chapter of the FTA includes obligations on each Party to ensure that its environmental laws and policies provide for and encourage high levels of environmental protection, effectively enforce its environmental laws, and provide opportunities for public participation on matters related to the implementation of the chapter. In the Joint Statement, the governments of the United States and Morocco (1) recognize “the importance of protecting the environment while promoting sustainable development in concert with the expanded bilateral trade and investment ties accompanying the United States-Morocco Free Trade Agreement (`FTA')” and (2) indicate their intent “to pursue efforts to enhance bilateral environmental cooperation. . . .” In paragraph 5 of the Joint Statement, the governments establish the Working Group to coordinate and review environmental cooperation activities. As envisioned in the Joint Statement, the Working Group develops Plans of Action, reviews and assesses cooperative environmental activities pursuant to the Plan of Action, recommends ways to improve such cooperation, and undertakes such other activities as may seem appropriate to the governments.

Through this notice, the United States is soliciting the views of the public with respect to the 2018-2021 Plan of Action. Members of the public, including NGOs, educational institutions, private sector enterprises, and all other interested persons are invited to submit written suggestions regarding items for inclusion in the meeting agendas or in the 2018-2021 Plan of Action. Please include your full name and identify any organization or group you represent. We encourage submitters to refer to:

• United States-Morocco Joint Statement on Environmental Cooperation;

• 2014-2017 Plan of Action Pursuant to the United States-Morocco Joint Statement on Environmental Cooperation;

• Chapter 17 of the United States-Morocco Free Trade Agreement; and

• Final Environmental Review of the United States-Morocco Free Trade Agreement.

These documents are available at: http://www.state.gov/e/oes/eqt/trade/morocco/index.htm.

Robert Wing,
Acting Director, Office of Environmental Quality and Transboundary Issues, Department of State.

[FR Doc. 2018-03117 Filed 2-13-18; 8:45 am]

BILLING CODE 4710-09-P